DEPARTMENT OF TRANSPORTATION

Surface Transportation Board

[STB Finance Docket No. 34489]

Stillwater Central Railroad, Inc.—Trackage Rights Exemption—The Burlington Northern and Santa Fe Railway Company

Pursuant to a trackage rights agreement dated December 15, 2001, between The Burlington Northern and Santa Fe Railway Company (BNSF) and Stillwater Central Railroad, Inc. (SCRR),¹ BNSF has agreed to grant restricted overhead trackage rights to SCRR over a line of railroad located between BNSF milepost 426.9, at Cherokee Yard in Tulsa, OK, and BNSF milepost 437.0, at Sapulpa, OK, a distance of 10.1 miles.²

¹ Although the trackage rights agreement was signed on December 15, 2001, the parties indicate that, due to an oversight, SCRR failed to file a notice of exemption with the Board at that time. SCRR states that it recently became aware of this oversight while negotiating an extension of the agreement.

² A redacted version of the trackage rights agreement between BNSF and SCRR was filed with the notice of exemption. The full version of the agreement, as required by 49 CFR 1180.6(a)(7)(ii), was concurrently filed under seal along with a motion for a protective order. A protective order was served on April 14, 2004.

The transaction was scheduled to be consummated on or after the April 8, 2004 effective date of the exemption.

The purpose of the trackage rights is to allow SCRR to interchange unit trains of cement with its affiliate, the South Kansas & Oklahoma Railroad, at BNSF's Cherokee Yard.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34489, must be filed with the Surface Transportation Board, 1925 K Street, NW., Washington, DC 20423-0001. In addition, a copy of each pleading must be served on Karl Morell, Ball Janik LLP, Suite 225, 1455 F Street, NW., Washington, DC 20005.

Board decisions and notices are available on our Web site at www.stb.dot.gov.

Decided: April 14, 2004.
By the Board, David M. Konschnik, Director, Office of Proceedings.
Vernon A. Williams,
Secretary.

[FR Doc. 04-9010 Filed 4-20-04; 8:45 am]

BILLING CODE 4915-01-P